DEPARTMENT OF TRANSPORTATION

Federal Railroad Administration

[Docket No. FRA-2025-0010]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before May 27, 2025.

ADDRESSES: Written comments and recommendations for the proposed ICR should be submitted on www.regulations.gov to the docket, Docket No. FRA-2025-0010. All comments received will be posted without change to the docket, including any personal information provided. Please refer to the assigned OMB control number (2130-0539) in any correspondence submitted. FRA will summarize comments received in response to this notice in a subsequent 30-day notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Workplace Safety.

OMB Control Number: 2130-0539.

Abstract: FRA collects a variety of information associated with 49 CFR part 214, Railroad Workplace Safety. To ensure compliance with part 214, FRA collects data on affected railroads' on-track safety programs to determine that railroads have policies, procedures, and practices in place that protect roadway workers from dangers in their work environment. Railroads are required to provide on-track safety manuals to all roadway workers that they can readily consult to determine what on-track safety procedures are required for their work assignment. Under the regulation, railroads are required to provide initial and recurrent training to roadway workers on their on-track safety program. This includes training for roadway workers who work where on-track safety for adjacent controlled tracks is required, and the appropriate practices and procedures they must follow.

FRA collects data from railroads on training through the records that they are required to keep. Additionally, FRA collects information on violations of workplace safety regulations on Form FRA F 6180.119. FRA uses violation information to support actions that will reduce or eliminate hazards to railroad workers. Specifically, FRA uses the information that it collects, under this regulation, to monitor and enforce requirements relating to the safety of roadway workers and ensure that railroads fulfill their responsibilities to keep roadway workers secure and free from unnecessary and avoidable hazards.

In this 60-day notice, FRA has made multiple adjustments to estimated paperwork burdens. FRA's estimate of all burden hours under this ICR has increased from 5,619 hours to 13,604 hours, and the number of estimated responses has increased from 105,751 to 290,698. The main reason for these increases is the inclusion of an existing recordkeeping requirement under § 214.337(f), detailed below. FRA also determined that several of the paperwork burdens reported in its previous submission were overestimated and some were determined to be unnecessary under the PRA as detailed below:

• Under § 214.307, On-track safety programs, FRA made burden estimate adjustments to reflect that most railroads have completed this requirement, and to account for the number of times FRA receives notifications from railroads with respect to any amendments made to their current safety programs or from new railroad startups. Specifically, FRA estimates two new railroad startups will submit on-track safety programs each year. In addition, FRA expects to receive approximately 25 notifications of amendments to existing on-track safety programs from established railroads. Consequently, the burden estimate for this requirement has decreased from 679 burden hours to 37 burden hours.

• § 214.336, On-track safety procedures for certain roadway work groups and adjacent tracks. After a thorough review, FRA found that this requirement is not a collection of information under 5 CFR 1320.3(b)(2). Therefore, 28 estimated burden hours associated with this requirement were removed from this ICR.

• Under § 214.337(f), On-track safety procedures for lone workers, it was determined that the burden was not included in FRA's previously reported submissions. This submission corrects that oversight, adding 10,400 burden hours.

• Under paragraph (c) of § 214.505, Required environmental control and protection systems for new on-track roadway maintenance machines with enclosed cabs, the average burden associated with the list of designated on-track roadway maintenance machines was decreased from 1 hour to 5 minutes. The decrease in burden hours reflects that, with the exception of startups, railroads should have already developed these designated lists and, therefore, only need to maintain and update them as appropriate.

• Additionally, the previously reported burden of 13 hours under § 214.505(d), related to existing roadway maintenance machines identified as “designated,” has been removed from this ICR because the regulatory requirement does not cause the collection of any information.

• A review of the number of FRA F 6180.119 forms, submitted over the last four and a half years, showed that on average only six forms were submitted annually. Therefore, the burden hours associated with this requirement were decreased by 492 hours.

• Finally, the overall recordkeeping burden hours have decreased from 3,387 hours to 2,953 hours. This decrease is due to the reduced number of roadway workers employed with the railroads.

Type of Request: Extension without change (with changes in estimates) of a currently approved collection.

Affected Public: Businesses, Roadway Workers, State Safety Inspectors.

Form(s): FRA F 6180.119.

Respondent Universe: 800 Railroads, 200 Contractors, 43,000 Roadway Workers and 350 State Inspectors.

Frequency of Submission: On occasion.

Reporting Burden:

CFR Section/subject | Respondent universe | Total annual responses | Average time per response | Total annual burden hours | Wage rate | Total cost equivalent wage rate ¹
|  | (A) | (B) | (C) = A * B |  | (D) = C *
Part 214 Workplace Safety Violation Report:
Form FRA F 6180.119— | 350 State Safety Inspectors | 6 | 4 hours | 24 | $69.79 | $1,674.96
214.307 On-track safety programs:
—(a) New railroads on-track safety program | 800 Railroads | 2 | 10 hours | 20 | 89.13 | 1,782.60
—(b) RR notification to FRA not less than one month before on-track safety program takes effect | 800 Railroads | 2 | 20 minutes | 0.66 | 89.13 | 58.83
—RR notification to FRA for amendments to existing on-track safety programs | 800 Railroads | 25 | 20 minutes | 8.25 | 89.13 | 735.32
—(c) RR amended on-track safety programs after FRA disapproval | 800 Railroads | 0.33 | 4 hours | 1.32 | 89.13 | 117.66
—written response in support of disapproved program | 800 Railroads | 0.33 | 20 hours | 6.60 | 89.13 | 588.26
214.309 On-track safety manual:
—(c) RR publication of bulletins/notices reflecting changes in on-track safety manual | 800 Railroads | 50 | 1 hour | 50 | 89.13 | 4,456.50
214.319 Working limits, generally:
(c) Written request to FRA to exempt a segment of track from the requirements of paragraph (b) of this section | FRA anticipates zero submissions for this requirement over the next three-year period.
214.320 Roadway maintenance machines movement over signalized non-controlled track:
—Request in writing from RR to FRA for equivalent level of protection to that provided by limiting all train and locomotive movements to restricted speed | 800 Railroads | 0.33 | 4 hours | 1.32 | 89.13 | 117.66
214.322 Exclusive track occupancy, electronic display:
—(b) Written authorities/printed authority copy if electronic display fails or malfunctions | 3 Class I Railroads | 1,000 | 10 minutes | 166.67 | 69.79 | 11,631.90
214.329 Train approach warning provided by watchmen/lookouts:
—(f) Written designation of watchmen/lookouts | 800 Railroads | 26,250 | 30 seconds | 218.75 | 89.13 | 19,497.19
214.337 On-track safety procedures for lone workers:
—(f) written statements | 800 Railroads | 208,000 | 3 minutes | 10,400 | 69.79 | 725,816
214.343 Training and qualification, general:
214.343 through 214.357—Annual training for all roadway workers—Records of training | 43,000 roadway Workers | 43,000 | 2 minutes | 1,433 | 89.13 | 127,723.29
214.503 Good-faith challenges; procedures for notification and resolution:
—(c) Written procedures for resolution of good faith challenges | 2 new railroads | 2 | 2 hours | 4 | 89.13 | 356.52
214.505 Required environmental control and protection systems for new on-track roadway maintenance machines with enclosed cabs:
—(c) Designation list of new and existing on-track roadway maintenance machines | 800 railroads, 200 contractors | 800 | 5 minutes | 64 | 89.13 | 5,704.32
—(i)(4) Stenciling or marking of remotely operated roadway maintenance machine | 30 remotely operated machines | 10 | 5 minutes | 0.83 | 69.79 | 57.93
214.507 Required safety equipment for new on-track roadway maintenance machines:
—(d) A-Built Light Weight displayed on new roadway maintenance machines | 800 railroads, 200 contractors | 1,000 | 5 minutes | 83.33 | 69.79 | 5,815.60
214.511 Required audible warning devices for new on-track roadway maintenance machines:
—Required audible warning devices for new on-track roadway maintenance machines | 800 railroads, 200 contractors | 3,700 | 5 minutes | 308.33 | 69.79 | 21,518.35
214.515 Overhead covers for existing on-track roadway maintenance machines:
—(b) Overhead covers for existing on-track roadway maintenance machines | 800 Railroads | 50 | 30 minutes | 25 | 89.13 | 2,228.25
214.517 Retrofitting of existing on-track roadway maintenance machines manufactured on or after January 1, 1991:
—(c) Stenciling the light weight on the machine | 800 railroads, 200 contractors | 500 | 5 minutes | 41.67 | 69.79 | 2,908.15
214.523 Hi-rail vehicles:
—(b) Records of compliance | 800 railroads, 200 contractors | 5,000 | 5 minutes | 416.67 | 89.13 | 37,137.80
—(d)(2) Non-complying conditions—Tagging and reporting | 800 railroads, 200 contractors | 500 | 10 minutes | 83.33 | 89.13 | 7,427.21
214.527 On-track roadway maintenance machines; inspection for compliance and schedule for repairs:
—(b) Inspection for compliance—tagging and reporting non-complying condition | 800 railroads, 200 contractors | 550 | 20 minutes | 183.33 | 69.79 | 12,794.60
214.533 Schedule of repairs subject to availability of parts:
—(d) Records of compliance | 800 railroads, 200 contractors | 250 | 15 minutes | 62.50 | 89.13 | 5,570.63
Totals ² | 800 railroads, 200 contractors | 290,698 | N/A | 13,604 | N/A | 966,583
¹ The dollar equivalent cost is derived from the 2023 Surface Transportation Board Full Year Wage A&B data series using the employee group 200 (Professional & Administrative) hourly wage rate of 50.93 and group 300 (Maintenance of Way & Structures) hourly wage rate of 39.88. The total burden wage rates (Straight time plus 75%) used in the table are 89.13 (50.93 × 1.75 = 89.13), and 69.79 (39.88 × 1.75).
² Totals may not add up due to rounding.

Total Estimated Annual Responses: 290,698.

Total Estimated Annual Burden: 13,604 hours.

Total Estimated Annual Dollar Cost Equivalent: 966,583.

FRA informs all interested parties that it may not conduct or sponsor, and a respondent is not required to respond to, a collection of information that does not display a currently valid OMB control number.

Authority: 44 U.S.C. 3501-3520.

Christopher S. Van Nostrand,
Deputy Chief Counsel.

[FR Doc. 2025-04992 Filed 3-24-25; 8:45 am]

BILLING CODE 4910-06-P